DEPARTMENT OF HEALTH AND HUMAN SERVICES

Centers for Medicare & Medicaid Services

Privacy Act of 1974; Computer Matching Program (Match No. 2001-03)

AGENCY: Department of Health and Human Services (HHS), Centers for Medicare & Medicaid Services (CMS).

ACTION: Notice of Computer Matching Program (CMP).

SUMMARY: In accordance with the requirements of the Privacy Act of 1974, as amended, this notice proposes to establish a CMP that CMS plans to conduct with the Social Security Administration (SSA), and the Internal Revenue Service (IRS). We have provided background information about the proposed matching program in the Supplementary Information section below. Although the Privacy Act requires only that CMS provide an opportunity for interested persons to comment on the proposed matching program, CMS invites comments on all portions of this notice. See Effective Dates section below for comment period.

EFFECTIVE DATES: CMS filed a report of the Computer Matching Program with the Chair of the House Committee on Government Reform and Oversight, the Chair of the Senate Committee on Governmental Affairs, and the Administrator, Office of Information and Regulatory Affairs, Office of Management and Budget (OMB) on October 16, 2001. We will not disclose any information under a matching agreement until 40 days after filing a report to OMB and Congress or 30 days after publication. We may defer implementation of this matching program if we receive comments that persuade us to defer implementation.

ADDRESS: The public should address comments to: Director, Division of Data Liaison and Distribution (DDLD), CMS, Room N2-04-27, 7500 Security Boulevard, Baltimore, Maryland 21244-1850. Comments received will be available for review at this location, by appointment, during regular business hours, Monday through Friday from 9 a.m.-3 p.m., eastern daylight time.

FOR FURTHER INFORMATION CONTACT: John A. Albert, Health Insurance Specialist, Division of Benefits Coordination, Benefits Operations Group, Center for Medicare Management, CMS, 7500 Security Boulevard, Baltimore, Maryland 21244-1850. The telephone number is (410) 786-7457.

SUPPLEMENTARY INFORMATION:

I. Description of the Matching Program

A. General

The Computer Matching and Privacy Protection Act of 1988 (Public Law (Pub. L.) 100-503), amended the Privacy Act (Title 5 United States Code (U.S.C.) 552a) by describing the manner in which computer matching involving Federal agencies could be performed and adding certain protections for individuals applying for and receiving Federal benefits. Section 7201 of the Omnibus Budget Reconciliation Act of 1990 (Pub. L. 100-508) further amended the Privacy Act regarding protections for such individuals. The Privacy Act, as amended, regulates the use of computer matching by Federal agencies when records in a system of records are matched with other Federal, state, or local government records. It requires Federal agencies involved in computer matching programs to:

1. Negotiate written agreements with the other agencies participating in matching programs;

2. Obtain the Data Integrity Boards approval of the match agreement;

3. Furnish detailed reports about matching programs to Congress and OMB;

4. Notify applicants and beneficiaries that the records are subject to matching; and,

5. Verify match findings before reducing, suspending, terminating, or denying an individual's benefits or payments.

B. CMS Computer Matches Subject to the Privacy Act

CMS has taken action to ensure that all of the computer matches programs that this Agency participates in comply with the requirements of the Privacy Act of 1974, as amended.

Dated: October 11, 2001.
Thomas A. Scully,
Administrator, Centers for Medicare & Medicaid Services.

Computer Match No. 2001-03

Name:

Medicare Secondary Payer Program.

Security Classification

Level Three Privacy Act Sensitive.

Participating Agencies:

Centers for Medicare & Medicaid Services; Internal Revenue Service; and Social Security Administration.

Authority for Conducting Matching Program:

This Matching Program is executed pursuant to the Privacy Act of 1974 (Title 5 United States Code (U.S.C.) 552a), as amended, and OMB Appendix I, A-130, titled: Management of Federal Information Resources. In addition, this program implements the information matching provisions of section 6103 (1)(12) of the Internal Revenue Code (IRC)(26 U.S.C. 6103(1)(12)) and section 1862 (b)(5) of the Social Security Act (the Act) (42 U.S.C. 1395y (b) (5)).

Section 6103 (1) (12) of the IRC provides for disclosure by IRS of return information relating to taxpayer identity, filing status of the individual for any specified tax year after 1986; and if married, the identity of the spouse of the individual. Section 1862 (b)(5) of the Act provides for disclosure of the name and social security number (SSN) of each Medicare beneficiary and Medicare-eligible spouse who are identified as having received wages above the minimum level. It also provides for disclosure of the name, address, and identification number of each employer identified as providing wages above the minimum level. The minimum wage level used in this match shall be established by the Secretary of HHS prior to the match and pertains to amounts received from a qualified employer in a previous year.

Purpose(s) of the Matching Program:

The primary purpose for this matching program is to establish the conditions, safeguards, and procedures for the disclosure of information used to identify coverage in the Medicare Secondary Payer Program. CMS does not have accurate information on all Medicare beneficiaries and Medicare-eligible spouses who have medical insurance coverage that may be primary to Medicare. SSA, through information collected from employers of working-aged beneficiaries and Medicare-eligible spouses, is able to identify Medicare-eligible individuals who have primary coverage through a group health plan.

Categories of Records and Individuals Covered by the Match:

Under the terms of this matching program, the SSA will transmit to the IRS, a list of names and tax identification numbers of Medicare beneficiaries. This information is maintained in SSA's Master Beneficiary Record (MBR) System. The IRS agrees to match MBR data against taxpayer identity information collected from individual tax returns and maintained in the IRS Individual Master File (IMF). IRS established Project 241, IMF/Medicare Beneficiary Match, to facilitate this matching program.

SSA will validate the taxpayer identity disclosed from the IMF by matching that information against the Master Files of SSN Holders (NUMIDENT). The NUMIDENT file contains records of SSNs issued to individuals by SSA. SSA will then extract employer identity information from the Earnings Recording and Self-employment Income System, referred to as the Master Earnings File. This file contains information on the starting date of employment for Medicare beneficiaries and Medicare-eligible spouses.

CMS and its agent will mail a data match questionnaire to the employers of Medicare beneficiaries or eligible spouses to verify periods of health insurance coverage and periods of employment. Instances of mistaken payments are referred to the appropriate Medicare contractor and become a part of its ongoing recovery process.

Inclusive Dates of the Match:

The Matching Program shall become effective no sooner than 40 days after the report of the Matching Program is sent to OMB and Congress, or 30 days after publication in the Federal Register, which ever is later. The matching program will continue for 18 months from the effective date and may be extended for an additional 12 months thereafter, if certain conditions are met.

[FR Doc. 01-26490 Filed 10-19-01; 8:45 am]

BILLING CODE 4120-03-P